DEPARTMENT OF HEALTH AND HUMAN SERVICES

Centers for Disease Control and Prevention

[60Day-08-0572]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Health Message Testing System, 0920—0572—Revision—National Center for Health Marketing (NCHM), Coordinating Center for Health Information and Service (CCHIS), Centers for Disease Control and Prevention CDC).

Background and Brief Description

The National Center for Health Marketing (NCHM) was established as part of the Centers for Disease Control and Prevention's Futures Initiative to help ensure that health information, interventions, and programs at CDC are based on sound science, objectivity, and continuous customer input.

Before CDC disseminates a health message to the public, the message always undergoes scientific review. However, reflecting the current state of scientific knowledge accurately provides no guarantee that the public will understand a health message or that the message will move people to take recommended action. Communication theorists and researchers agree that for health messages to be as clear and influential as possible, target audience members or representatives must be involved in developing the messages and provisional versions of the messages must be tested with members of the target audience.

However, increasingly there are circumstances when CDC must move swiftly to protect life, prevent disease, or calm public anxiety. Health message testing is even more important in these instances, because of the critical nature of the information need. Consider the following situations:

CDC must communicate about a hazard, outbreak, or other emergency that presents an urgent threat to one or more segments of the public. The national crisis in which anthrax spores contaminated mail, postal facilities, and congressional buildings is a striking example.

CDC receives a mandate from Congress with a tight deadline for communicating with the public about a specific topic. For example, in 1998 Congress gave CDC 120 days to develop and test messages for a public information campaign about Helicobacter pylori, a bacterium that can cause stomach ulcers and increase cancer risk if an infected individual is not treated with antibiotics.

Emerging lifestyle or technological trends create an ephemeral opportunity to leverage the attention or behavior of the public to increase the reach and/or salience of prevention messages. For example, media monitoring reveals a partnership between Napster, a music-based web site, and the Pennsylvania State University. This partnership creates an ample opportunity for CDC to join in the collaboration to reach students with a salient health promotion message. For instance, a ticker found on the top of the Napster homepage screen might contain an informational URL followed by a message encouraging students, especially those residing in dormitories, to receive the meningitis inoculation series at their campus health center. This message would be tailored prior to the beginning of each academic year and would need to be posted in a timely manner before the arrival of the incoming freshman class.

Of equal importance, this communication mechanism can be effectively used in emergency “rapid response” situations such as the campus shooting incidents at Virginia Tech and North Illinois University.

In the interest of timely health message dissemination, many programs forgo the important step of testing messages on dimensions such as clarity, salience, appeal, and persuasiveness (i.e., the ability to influence behavioral intention). Skipping this step avoids the delay involved in the standard OMB review process, but at a high potential cost. Untested messages can waste communication resources and opportunities because the messages can be perceived as unclear or irrelevant. Untested messages can also have unintended consequences, such as jeopardizing the credibility of Federal health officials.

There is no cost to the respondents other than their time.

Estimated Annualized Burden Hours
Data collection method | Number of respondents | Number of responses per respondent | Average burden per response (in hours) | Total burden hours
Central Location Intercept Interviews | 300 | 12 | 5/60 | 300
Telephone Interviews | 300 | 12 | 4/60 | 240
Individual In-depth Interview (Cognitive Interviews) | 200 | 10 | 6/60 | 200
Focus Group Screenings | 900 | 10 | 3/60 | 450
Focus Groups | 300 | 20 | 8/60 |
Online Surveys | 400 | 12 | 6/60 | 480
Total | 2,400 |  |  | 2,470

Dated: April 8, 2008.
Maryam I. Daneshvar,
Acting Reports Clearance Officer, Centers for Disease Control and Prevention.

[FR Doc. E8-7973 Filed 4-14-08; 8:45 am]

BILLING CODE 4163-18-P